DEPARTMENT OF EDUCATION

[Docket No. ED-2016-ICCD-0123]

Agency Information Collection Activities; Comment Request; Application for the Rural Education Achievement Program (REAP)

AGENCY: Office of Elementary and Secondary Education (OESE), Department of Education (ED).

ACTION: Notice.

SUMMARY: In accordance with the Paperwork Reduction Act of 1995 (44 U.S.C. chapter 3501 et seq.), ED is proposing a revision of an existing information collection.

DATES: Interested persons are invited to submit comments on or before January 6, 2017.

ADDRESSES: To access and review all the documents related to the information collection listed in this notice, please use http://www.regulations.gov by searching the Docket ID number ED-2016-ICCD-0123. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-349, Washington, DC 20202-4537.

FOR FURTHER INFORMATION CONTACT: For specific questions related to collection activities, please contact Eric Schulz, 202-260-7349.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application for the Rural Education Achievement Program (REAP).

OMB Control Number: 1810-0646.

Type of Review: A revision of an existing information collection.

Respondents/Affected Public: State, Local, and Tribal Governments.

Total Estimated Number of Annual Responses: 6,049.

Total Estimated Number of Annual Burden Hours: 20,683.

Abstract: This data collection is pursuant to the Secretary's authority under Part B of Title V of the Elementary and Secondary Education Act (ESEA), as amended by the Every Student Succeeds Act (ESSA, Public Law 114-95) to award funds under two grant programs designed to address the unique needs of rural school districts—the Small, Rural School Achievement (SRSA) program (ESSA Section 5211) and the Rural and Low-Income School (RLIS) program (ESSA Section 5221). For both grant programs, the Department awards funds based on a calculation of the allocation each eligible LEA should receive according to formulas prescribed in the statute. This data collection package consists of two forms and related documents that are used to accomplish the grant award process: (1) Form 1 is a spreadsheet used by SEAs to submit information to identify RLIS- and SRSA-eligible LEAs and to allocate funds based on the appropriate formula, and (2) Form 2 is an application form for SRSA-eligible LEAs to apply for funding. The REAP Eligibility Spreadsheet (Form 1) has been modified from the previously-approved collection under OMB #1810-0646, to exclude data that is no longer needed because of improvements in processes, and to include data that is now required due to changes in the new statute.

The main thrust of this revision involves the SRSA Application Package (Form 2). The REAP program office seeks to replace the existing G5 document with the Standard Form (SF) 424 (OMB #4040-0004), available through GRANTS.gov. The move to GRANTS.gov is necessary because beginning with the FY 2017 grant award cycle, all SRSA-eligible LEAs will submit an annual application in order to receive SRSA grant funds. In addition, this revision removes Standard Form-LLL Disclosure of Lobbying activities, which no longer applies to SRSA applicants, and adds the General Education Provisions Act (GEPA) Section 427 requirements, which do apply.

Dated: November 2, 2016.
Tomakie Washington,
Acting Director, Information Collection Clearance Division, Office of the Chief Privacy Officer, Office of Management.

[FR Doc. 2016-26798 Filed 11-4-16; 8:45 am]

BILLING CODE 4000-01-P